DEPARTMENT OF HOMELAND SECURITY

Federal Emergency Management Agency

[Docket ID: FEMA-2014-0006; OMB No. 1660-0011]

Agency Information Collection Activities: Proposed Collection; Comment Request; Debt Collection Financial Statement

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the collection of information related to disaster program accounts and debts receivable.

DATES: Comments must be submitted on or before April 21, 2014.

ADDRESSES: To avoid duplicate submissions to the docket, please use only one of the following means to submit comments:

(1) Online. Submit comments at http://www.regulations.gov under Docket ID FEMA-2014-0006. Follow the instructions for submitting comments.

(2) Mail. Submit written comments to Docket Manager, Office of Chief Counsel, DHS/FEMA, 500 C Street, SW., Room 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Contact Mary Schneider, Chief, Debt Management Unit, FEMA Finance Center, Office of the Chief Financial Officer, FEMA, at (540) 504-1649 for further information. You may contact the Records Management Division for copies of the proposed collection of information at facsimile number (202) 646-3347 or email address: FEMA-Information-Collections-Management@dhs.gov.

SUPPLEMENTARY INFORMATION: Under the Debt Collection Improvement Act as amended (31 U.S.C. 3701, et seq.), the Federal Claims Collection Standards (31 CFR 901), and DHS regulations (6 CFR 11); the Administrator of FEMA is: (1) Required to attempt collection of all debts owed to the United States arising out of activities of FEMA; and (2) for debts not exceeding $100,000, authorized to compromise such debts or terminate collection action completely where it appears that no person is liable for such debt or has the present or prospective financial ability to pay a significant sum, or that the cost of collecting such debt is likely to exceed the amount of the recovery (31 U.S.C. 3711 (a)(2)).

Collection of Information

Title: Debt Collection Financial Statement.

Type of Information Collection: Revision of a currently approved information collection.

OMB Number: 1660-0011.

FEMA Forms: FEMA Form127-0-1, Debt Collection Financial Statement.

Abstract: FEMA may request debtors to provide personal financial information on FEMA Form 127-0-1 concerning their current financial position. With this information, FEMA evaluates whether to allow its debtors to pay their FEMA debts under installment repayment agreements and if so, under what terms. FEMA also uses this data to determine whether to compromise, suspend, or completely terminate collection efforts on respondent's debts. This data is also used to locate the debtor's assets if the debts are sent for judicial enforcement.

Affected Public: Individuals or households.

Number of Respondents: 2,000.

Number of Responses: 2,000.

Estimated Total Annual Burden Hours: 1,500 hours.

Estimated Annualized Burden Hours and Costs
Type of respondent | Form Name/form number | No. of respondents | No. of responses per respondent | Total No. of responses | Avg. burden per response (in hours) | Total annual burden (in hours) | Avg. hourly wage rate | Total annual respondent cost
Individuals or Households | Debt Collection Financial Statement/FEMA Form 127-0-1 | 2,000 | 1 | 2,000 | 45 minutes | 1,500 | $33.74 | $50,610.00
Total |  | 2,000 |  | 2,000 |  | 1,500 |  | $50,610.00
• Note: The “Avg. Hourly Wage Rate” for each respondent includes a 1.4 multiplier to reflect a fully-loaded wage rate.

Estimated Cost: The estimated annual cost to respondents for the hour burden is $50,610.00. There are no annual costs to respondents operations and maintenance costs for technical services. There is no annual start-up or capital costs. The cost to the Federal Government is $189,319.75.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: February 6, 2014.
Charlene D. Myrthil,
Director, Records Management Division, Mission Support Bureau, Federal Emergency Management Agency, Department of Homeland Security.

[FR Doc. 2014-03504 Filed 2-14-14; 8:45 am]

BILLING CODE 9111-19-P